ENVIRONMENTAL PROTECTION AGENCY

[FRL-7014-6]

Notice of Public Meetings; Extension of Intel Project XL

AGENCY: Environmental Protection Agency (EPA).

ACTION: Notice.

SUMMARY: This notice announces that Intel and EPA plan to continue their innovative partnership under the Excellence and Leadership Program (XL) through renewal of an existing agreement. Because the Intel XL Project is based on strong stakeholder involvement, Intel and EPA are announcing a series of public meetings at which extension of the Intel XL Project will be discussed. Intel and EPA are inviting public participation at those meetings for those people interested in the Intel XL Project, or the XL Program in general. Public participation is also encouraged via the internet.

DATES AND ADDRESSES: All public meetings will be held at the Chandler Public Library, City Council Chamber, 2nd Floor, 222 E. Commonwealth Ave., Chandler, Arizona at 6:30 p.m. Meetings will be held on the following dates:

July 24, 2001

August 21, 2001

September 18, 2001

October 16, 2001

November 13, 2001

FOR FURTHER INFORMATION CONTACT: Colleen McKaughan, Associate Director, Air Division (AIR-1), U.S. Environmental Protection Agency, Region 9, 75 Hawthorne Street, San Francisco, California 94105; Telephone: (520) 498-0118; Email:mckaughan.colleen@epa.gov.

SUPPLEMENTARY INFORMATION: In March of 1995, EPA announced a new environmental program called Project XL, or Excellence and Leadership. The purpose of this program is to work with interested companies, state and local agencies, and communities to develop innovative approaches for addressing environmental issues. Among the qualifications for an XL Project, a company's innovative ideas must provide better environmental performance compared to compliance with both current and future regulations, produce cost savings, and significantly involve the community.

Intel Corporation was an early volunteer for this program and sponsor of one of the first eight projects selected by EPA in November 1995. Intel convened a stakeholder team made up of representatives of EPA, the Gila River Indian Community, the State of Arizona, Maricopa County, the City of Chandler, and four members of the public. The stakeholder team developed a project that provided operational flexibility for Intel while providing greater environmental protection to the community. The details of the project are spelled out in the Final Project Agreement (FPA) dated November 19, 1996 (available on EPA's website at http://www.epa.gov/ProjectXL/intel/index.htm and Intel's website at http://www.intel.com/intel/other/ehs/projectxl). The FPA was signed by the stakeholders, and has been implemented successfully as a pilot project over the last 5 years.

Intel and EPA would like to extend the Intel XL Project for another 5 years, based on the successful pilot program. This extension is also supported by the stakeholders, most of whom have participated in the project's implementation over the past 5 years. In order to extend the project, the FPA and Intel's operating permit need to be renewed. Intel and EPA would like to invite the public to participate in the discussions related to these renewals.

There are several ways to participate. People can attend the meetings which are listed in this notice, or they can participate through the internet. Comments can be posted to the Intel website at http://www.alt-path.com/ocotillo. If you wish to speak to someone in person regarding participating in this effort, you may also contact Colleen McKaughan of EPA at: 520-498-0118 or mckaughan.colleen@epa.gov.

Authority: 42 U.S.C. 7401 et seq.

Dated: July 12, 2001.
Elizabeth A. Shaw,
Director, Office of Environmental Policy Innovation.

[FR Doc. 01-18095 Filed 7-18-01; 8:45 am]

BILLING CODE 6560-50-U